DEPARTMENT OF THE INTERIOR

Bureau of Reclamation

[DOI-2024-0010; RR83550000, 245R5065C6, RX.59389832.1009676]

Privacy Act of 1974; System of Records

AGENCY: Bureau of Reclamation, Interior.

ACTION: Notice of a modified system of records.

SUMMARY: Pursuant to the provisions of the Privacy Act of 1974, as amended, the Department of the Interior (DOI) is issuing a public notice of its intent to modify the Bureau of Reclamation (Reclamation) Privacy Act system of records, INTERIOR/WBR-31, Acreage Limitation. DOI is revising this notice to change the system number to be consistent with Reclamation's title, propose new and modified routine uses, and update all sections of the notice to accurately reflect management of the system of records. This modified system will be included in DOI's inventory of record systems.

DATES: This modified system will be effective upon publication. New or modified routine uses will be effective October 28, 2024. Submit comments on or before October 28, 2024.

ADDRESSES: You may send comments identified by docket number DOI-2024-0010 by any of the following methods:

• Federal eRulemaking Portal: https://www.regulations.gov. Follow the instructions for sending comments.

• Email: DOI_Privacy@ios.doi.gov. Include docket number DOI-2024-0010 in the subject line of the message.

• U.S. Mail or Hand-Delivery: Teri Barnett, Departmental Privacy Officer, U.S. Department of the Interior, 1849 C Street NW, Room 7112, Washington, DC 20240.

Instructions: All submissions received must include the agency name and docket number DOI-2024-0010. All comments received will be posted without change to https://www.regulations.gov, including any personal information provided.

Docket: For access to the docket to read background documents or comments received, go to https://www.regulations.gov.

FOR FURTHER INFORMATION CONTACT: Regina Magno, Associate Privacy Officer, Bureau of Reclamation, P.O. Box 25007, Denver, CO 80225, privacy@usbr.gov or (303) 445-3326.

SUPPLEMENTARY INFORMATION:

I. Background

Reclamation maintains the INTERIOR/WBR-31, Acreage Limitation, system of records. The purpose of this system is to obtain from landowners and lessees written information on their landholdings that is pertinent to their compliance with the ownership and full cost pricing provisions required by statute and regulations. The records are used by Reclamation to ensure contractually obligated irrigation districts and contract holders are following reporting and certification requirements of Federal reclamation law (Pub. L. 97-293).

DOI is publishing this revised notice to change the system number to reflect Reclamation's title; update the system manager and system location sections; expand on categories of individuals covered by the system, the categories of records and records source categories sections; update authorities for maintenance of the system; update the storage, safeguards, and records retention schedule; update the notification, records access and contesting procedures; reorganize the sections and provide general updates in accordance with the Privacy Act of 1974 and Office of Management and Budget (OMB) Circular A-108, Federal Agency Responsibilities for Review, Reporting, and Publication under the Privacy Act.

Additionally, Reclamation is changing the routine uses from a numeric to alphabetic list and is proposing to modify existing routine uses to provide clarity and transparency and reflect updates consistent with standard DOI routine uses. Routine use A was modified to further clarify disclosures to the Department of Justice or other Federal agencies, when necessary, in relation to litigation or judicial proceedings. Routine use B has been modified to clarify disclosures to a congressional office to respond to or resolve an individual's request made to that office. Routine use D has been modified to allow Reclamation to refer matters to the appropriate Federal, State, local, or foreign agencies, or other public authority agencies responsible for investigating or prosecuting violations of, or for enforcing, or implementing, a statute, rule, regulation, order, or license. Routine use J was slightly modified to allow Reclamation to share information with appropriate Federal agencies or entities when reasonably necessary to prevent, minimize, or remedy the risk of harm to individuals or the Federal Government resulting from a breach in accordance with OMB Memorandum M-17-12, Preparing for and Responding to a Breach of Personally Identifiable Information.

Reclamation is proposing to add new routine uses C, E, F, G, H, I, L, M, and N to facilitate sharing of information with agencies and organizations to ensure the efficient management of all land, facilities, and waterbodies under Reclamation's jurisdiction, promote the integrity of the records in the system, or carry out a statutory responsibility of Reclamation or the Federal Government. Proposed routine use C facilitates sharing of information with the Executive Office of the President to respond to an inquiry by the individual to whom that record pertains. Proposed routine use E allows Reclamation to share information with an official of another Federal agency to assist in the performance of their official duties related to reconciling or reconstructing an individual's record. Proposed routine use F facilitates sharing of information related to hiring, issuance of a security clearance, or a license, contract, grant, or benefit. Proposed routine use G allows Reclamation to share information with the National Archives and Records Administration to conduct records management inspections. Proposed routine use H allows Reclamation to share information with external entities, such as State, territorial and local governments and Tribal organizations needed in response to court orders and/or for discovery purposes related to litigation. Proposed routine use I allows Reclamation to share information with an expert, consultant, grantee, shared service provider, or contractor (including employees of the contractor) of DOI that performs services requiring access to these records on DOI's behalf to carry out the purposes of the system. Proposed routine use L allows Reclamation to share information with OMB during the coordination and clearance process in connection with legislative affairs. Proposed routine use M allows Reclamation to share information with the Department of the Treasury to recover debts owed to the United States. Routine use N allows Reclamation to share information with the news media and the public, with approval by the Public Affairs Officer and Senior Agency Official for Privacy in consultation with counsel if there is a legitimate public interest in the disclosure of the information.

Pursuant to the Privacy Act, 5 U.S.C. 552a(b)(12), DOI may disclose information from this system to consumer reporting agencies as defined in the Fair Credit Reporting Act (15 U.S.C. 1681a(f)) or the Federal Claims Collection Act of 1966 (31 U.S.C. 3701(a)(3)) to aid in the collection of outstanding debts owed to the Federal Government.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The INTERIOR/Reclamation-31, Acreage Limitation, system of records notice is published in its entirety below. In accordance with 5 U.S.C. 552a(r), DOI has provided a report of this system of records to OMB and to Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/Reclamation-31, Acreage Limitation.

SECURITY CLASSIFICATION:

Unclassified.

SYSTEM LOCATION:

Reclamation records in this system are maintained at:

(1) Bureau of Reclamation, Mission Assurance and Protection Organization, 6th and Kipling, Building 67, MS 84-55000 (RRA), Denver, CO 80225; and

(2) District offices in which subject individual submitted certification and reporting forms. District office addresses may be obtained from the Reclamation Law Administration Division of the Mission Assurance and Protection Organization.

SYSTEM MANAGER(S):

Manager, Mission Assurance and Protection Organization, Reclamation Law Administration Division, Bureau of Reclamation, P.O. Box 25007, MS 84-55000 (RRA), Denver, CO 80225.

AUTHORITY FOR MAINTENANCE OF THE SYSTEM:

Reclamation Act of 1902, (Pub. L. 57-161), as amended and supplemented; Public Law 97-293; Reclamation Reform Act of 1982, (43 U.S.C. 390aa, et seq.), as amended, at sections 206, 224(c), 224(g), and 228; Acreage Limitation Rules and Regulations, 43 CFR part 426; and Information Requirements for Certain Farm Operations in Excess of 950 Acres and the Eligibility of Certain Formerly Excess Land, 43 CFR part 428.

PURPOSE(S) OF THE SYSTEM:

The purpose of this system is to obtain from landowners and lessees written information on their landholdings to administer the acreage limitation provisions of Federal reclamation law, and to ensure compliance with the statutory and regulatory requirements for the receipt of subsidized Reclamation irrigation water, including the ownership and full-cost pricing provisions of Federal reclamation law.

CATEGORIES OF INDIVIDUALS COVERED BY THE SYSTEM:

Individuals covered by this system include members of the public, individual landholders, individual land lessees, individual or entity farm operators, and officials of Federal and non-Federal entities. This system contains records concerning corporations and other business entities, which are not subject to the Privacy Act. However, records pertaining to individuals acting on behalf of corporations and other business entities may reflect personal information that may be maintained in this system of records.

CATEGORIES OF RECORDS IN THE SYSTEM:

Records maintained on all individuals may include: Names, personal addresses, personal home telephone numbers, personal cell phone numbers, and information related to the administration of landholdings, acreage limitation, and irrigation subsidies.

Records on landholders and lessees may include: Employer Identification Numbers; citizenship status; status pursuant to Federal reclamation law; acreage owned and/or leased; legal descriptions or assessor parcel numbers; deeds; contracts or agreements relative to the transfer of land ownerships, including excess land sales and pertinent details of such sales; signature authorization documents; power-of-attorney documents; irrevocable elections; terms and effective dates of leases; leases; lease/purchase options; trust agreements; partnership agreements; and corporate resolutions.

Records on farm operators may include: Farm operating agreements, type of services provided, acreage operated by farm operators, and identification of part-owners of the farm operator.

RECORD SOURCE CATEGORIES:

Records in the system are obtained from water districts, contractors, individuals, legal entities, and Federal and non-Federal entities including State and local governmental units.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, territorial, local, Tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, territorial, local, Tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To State, territorial, and local governments and Tribal organizations to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To the Internal Revenue Service for the purpose of reporting the existence of “illegal Federal irrigation subsidies” as defined by section 90 of the Internal Revenue Code.

P. To financial institutions for the purpose of acquiring information needed by the lender to complete the certification and reporting requirements of the Reclamation Reform Act of 1982 (43 U.S.C. 390aa) for involuntarily acquired irrigable or irrigation land.

POLICIES AND PRACTICES FOR STORAGE OF RECORDS:

Acreage Limitation records are managed securely at Reclamation offices and the offices at water districts and contractors as required by Federal reclamation law and other regulations as stated in the Authority for Maintenance of the System section of this SORN. Paper records are contained in file folders stored in locked file cabinets at secured Reclamation facilities. Electronic records are contained in removable drives, computers, email, and electronic databases. Water districts and contractors that are required to maintain acreage limitation records abide by Reclamation requirements regarding management and storage of records.

POLICIES AND PRACTICES FOR RETRIEVAL OF RECORDS:

Records are retrieved by irrigation year; district name; landholder name; assessor parcel number; excess land sale number; acreage limitation topic to include but not limited to trusts and farm operators; operator name; employer identification number; telephone number; mailing address; or identifying property characteristics to include assessor parcel number.

POLICIES AND PRACTICES FOR RETENTION AND DISPOSAL OF RECORDS:

Records in this system are currently maintained in accordance with the following Bureau of Reclamation Records Retention Schedule: 2.2.4.23 Mission—Sustainably Managed Water—Historic Water and Power Projects, Resources and Delivery PERM, which has been approved by NARA. This records schedule covers documentation including correspondence, memorandums, email, and other documentation relating to landholding limitations and determinations within Reclamation irrigation projects. The disposition for these records is permanent. Files are closed at the end of each fiscal year or when no longer needed for reference whichever is earlier. Files are transferred to NARA in Denver 25 years after closure or as volume warrants.

Certification and reporting forms (including verification forms) located in district offices are retained for 6 years, at a minimum. The most current fully completed certification and reporting forms are maintained on file with the most current verification form, in accordance with 43 CFR 426.19(e).

Paper records are disposed of by shredding or pulping, and records contained on electronic media format are degaussed or erased in accordance with the applicable records retention schedule, NARA guidelines, and Departmental policy.

ADMINISTRATIVE, TECHNICAL, AND PHYSICAL SAFEGUARDS:

The records contained in this system are safeguarded in accordance with 43 CFR 2.226 and other applicable security rules and policies. Records are accessible only by authorized DOI employees, and other Federal government agencies and contractors who have contractual agreements with Reclamation to conduct activities related to acreage limitation. During normal hours of operation, paper records are secured in locked file cabinets under the control of authorized personnel. Computers and servers on which electronic records are stored are in secured DOI and/or contractor facilities with physical, technical, and administrative levels of security such as access codes, security codes, and security guards, to prevent unauthorized access to the DOI network and information assets. Access to DOI networks and data requires a valid username and password and is limited to DOI personnel and/or contractors who have a need to know of the information for the performance of their official duties. Access to contractor's networks and data requires restricted access limited to authorized personnel.

Computerized records systems follow the National Institute of Standards and Technology privacy and security standards as developed to comply with the Privacy Act of 1974, as amended, 5 U.S.C. 552a; Paperwork Reduction Act of 1995, 44 U.S.C. 3501, et seq.; Federal Information Security Modernization Act of 2014, 44 U.S.C. 3551, et seq.; and the Federal Information Processing Standard 199: Standards for Security Categorization of Federal Information and Information Systems. Security controls include user identification, passwords, database permissions, encryption, firewalls, audit logs, and network system security monitoring, and software controls. System administrators and authorized personnel are trained and required to follow established internal security protocols and must complete all security, privacy, and records management training and sign the DOI Rules of Behavior.

RECORD ACCESS PROCEDURES:

An individual requesting access to their records should send a written inquiry to the System Manager identified in this notice. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. Requests submitted by mail must be clearly marked “PRIVACY ACT REQUEST FOR ACCESS” on both the envelope and letter. A request for access must meet the requirements of 43 CFR 2.238.

CONTESTING RECORD PROCEDURES:

An individual requesting amendment of their records should send a written request to the System Manager as identified in this notice. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

An individual requesting notification of the existence of records about them should send a written inquiry to the System Manager as identified in this notice. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

64 FR 13234 (March 17, 1999); modification published at 73 FR 20949 (April 17, 2008) and 86 FR 50156 (September 7, 2021).

Teri Barnett,
Departmental Privacy Officer, U.S. Department of the Interior.

[FR Doc. 2024-22108 Filed 9-25-24; 8:45 am]

BILLING CODE 4332-90-P